DEPARTMENT OF TRANSPORTATION

Federal Aviation Administration

Public Notice of Surplus Property Release; Spokane International Airport, Spokane, Washington

AGENCY: Federal Aviation Administration (FAA), DOT.

ACTION: Notice of request to release surplus property.

SUMMARY: Under FAA regulations, notice is being given that the FAA is considering a request from the City of Spokane, Washington and the County of Spokane, Washington, to waive the surplus property requirements for approximately 20 acres of airport property located at Spokane International Airport, in Spokane, Washington. The subject property is located in the southeast section of the airport within the Airport Business Park. This release will allow the City and the County to sell 1 parcel of airport property to King Beverage and to construct a distribution facility and light industrial use. There will be proceeds generated from the proposed release of this property for capital improvements at the airport. The City and County will receive not less than fair market value for the property and the revenue generated from the sale will be used for airport purposes. It has been determined through study that the subject parcel will not be needed for aeronautical purposes.

DATES: Comments are due within 30 days of the date of the publication of this notice in the Federal Register. Emailed comments can be provided to Ms. Mandi M. Lesauis, Program Specialist, Seattle Airports District Office, mandi.lesauis@faa.gov.

FOR FURTHER INFORMATION CONTACT: Mandi M. Lesauis, Program Specialist, Seattle Airports District Office, mandi.lesauis@faa.gov, (206) 231-4140.

Issued in Des Moines, Washington, on October 13, 2021.
Warren D. Ferrell,
Acting Manager, Seattle Airports District Office.

[FR Doc. 2021-22636 Filed 10-15-21; 8:45 am]

BILLING CODE 4910-13-P